DEPARTMENT OF COMMERCE

International Trade Administration

[A-570-122]

Certain Corrosion Inhibitors From the People's Republic of China: Final Results of Antidumping Duty Administrative Review, 2023-2024

AGENCY: Enforcement and Compliance, International Trade Administration, Department of Commerce.

SUMMARY: The U.S. Department of Commerce (Commerce) determines that companies in the People's Republic of China (China) made sales of subject merchandise at less than normal value (NV) during the period of review (POR) March 1, 2023, through February 29, 2024.

DATES: Applicable June 6, 2025.

FOR FURTHER INFORMATION CONTACT: Blair Hood or Dusten Hom, AD/CVD Operations, Office I, U.S. Department of Commerce, 1401 Constitution Avenue NW, Washington, DC 20230; telephone: (202) 482-8329 and (202) 482-5075, respectively.

SUPPLEMENTARY INFORMATION:

Background

On January 2, 2025, Commerce published in the Federal Register the preliminary results of the administrative review of the antidumping duty order ¹ on corrosion inhibitors from China and invited interested parties to comment.² This review covers two producers/exporters of the subject merchandise, Anhui Trust Chem Co., Ltd. (ATC); Jiangsu Trust Chem Co., Ltd. (JTC); and Nanjing Trust Chem Co., Ltd. (NTC) (collectively ATC) ³ and Nantong Botao Chemical Co., Ltd. (Botao). Additionally, on December 9, 2024, Commerce tolled certain administrative deadlines in this review by 90 days; accordingly, deadline to issue the final results in this administrative review is now July 8, 2025.⁴ For a summary of the events that occurred since the Preliminary Results, as well as the full discussion of the issues raised by parties for these final results, are discussed in the Issues and Decision Memorandum.⁵ Commerce conducted this administrative review in accordance with section 751 of the Tariff Act of 1930, as amended (the Act).

¹ See Certain Corrosion Inhibitors from the People's Republic of China: Antidumping Duty and Countervailing Duty Orders, 86 FR 14869 (March 19, 2021) (Order).

² See Certain Corrosion Inhibitors from the People's Republic of China: Preliminary Results and Partial Rescission of the Antidumping Duty Administrative Review; 2023-2024, 90 FR 81 (January 2, 2025) (Preliminary Results), and accompanying Preliminary Decision Memorandum (PDM).

³ As we did in the previous segments of this proceeding and the Preliminary Results, we continue to treat ATC, JTC, and NTC as a single entity for the final results of this review. See Memorandum, “Preliminary Affiliation and Collapsing Memorandum for Anhui Trust Chem Co., Ltd., and Jiangsu Trust Chem Co., Ltd., and Nanjing Trust Chem Co., Ltd.,” dated March 31, 2023; see also Preliminary Results, 90 FR at 81.

⁴ See Memorandum, “Tolling of Deadlines for Antidumping and Countervailing Duty Proceedings,” dated December 9, 2024.

⁵ See Memorandum, “Issues and Decision Memorandum for the Final Results of the 2023-2024 Administrative Review of the Antidumping Duty Order on Certain Corrosion Inhibitors from the People's Republic of China,” dated concurrently with, and hereby adopted by, this notice (Issues and Decision Memorandum).

Scope of the Order

The products covered by the Order are certain corrosion inhibitors from China. A complete description of the scope of the Order is contained in the Issues and Decision Memorandum.

Analysis of Comments Received

All issues raised in the case and rebuttal briefs by parties in this administrative review are addressed in the Issues and Decision Memorandum and are listed in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on the comments received from interested parties regarding our Preliminary Results, and for the reasons explained in the Issues and Decision Memorandum, we made certain changes for the final results of review.

Separate Rate Eligibility

In the Preliminary Results, we found that Gold Chemical Limited (Gold Chemical), demonstrated its eligibility for a separate rate.⁶ As we received no information or arguments to the contrary, we continue to find that Gold Chemical is eligible for a separate rate.

⁶ Id.

The China-Wide Entity

In accordance with Commerce's policy, the China-wide entity will not be under review unless a party specifically requests, or Commerce self-initiates, a review of the China-wide entity.⁷ As stated in the Preliminary Results, because no party requested a review of the China-wide entity, and Commerce did not self-initiate a review of the entity, the entity is not under review, and the entity's rate, i.e., 241.02 percent, is not subject to change.⁸

⁷ See Antidumping Proceedings: Announcement of Change in Department Practice for Respondent Selection in Antidumping Duty Proceedings and Conditional Review of the Nonmarket Economy Entity in NME Antidumping Duty Proceedings, 78 FR 65963, 65969-70 (November 4, 2013).

⁸ For an explanation on the derivation of the China-wide rate, see Notice of Final Determination of Sales at Less Than Fair Value: Chlorinated Isocyanurates from the People's Republic of China, 70 FR 24502, 24505 (May 10, 2005).

Final Results of the Review

Commerce determines that the following estimated weighted-average dumping margins exist for the period March 1, 2023, through February 29, 2024:

Exporter | Weighted-average dumping margin (percent)
Anhui Trust Chem Co., Ltd.; Jiangsu Trust Chem Co., Ltd.; Nanjing Trust Chem Co., Ltd | 128.88
Nantong Botao Chemical Co., Ltd | 128.54
Separate Rate Applicable to the Following Companies
Gold Chemical Limited | 128.76

Disclosure

We intend to disclose the calculations performed in connection with these final results of review to interested parties in this review within five days after public announcement of the final results or, if there is no public announcement, within five days of the date of publication of this notice in the Federal Register, in accordance with 19 CFR 351.224(b).

Assessment Rates

Pursuant to section 751(a)(2)(A) of the Act, and 19 CFR 351.212(b)(1), Commerce has determined, and U.S. Customs and Border Protections (CBP) shall assess, antidumping duties on all appropriate entries of subject merchandise in accordance with the final results of this review. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

For ATC and Botao, which have final weighted-average dumping margins that are not zero or de minimis (i.e., less than 0.5 percent), we calculated importer-specific ad valorem duty assessment rates based on the ratio of the total amount of dumping calculated for each importer's examined sales and the total entered value of the sales, in accordance with 19 CFR 351.212(b)(1). Where the respondent did not report entered value, we will calculate importer-specific per-unit duty assessment rates based on the ratio of the total amount of antidumping duties calculated for the examined sales to the total quantity of those sales. Where an importer-specific assessment rate is de minimis (i.e., less than 0.5 percent), the entries by that importer will be liquidated without regard to antidumping duties.

Pursuant to a refinement in our non-market economy practice, for sales that were not reported in the U.S. sales data submitted by ATC and Botao, we will instruct CBP to liquidate entries associated with those sales at the rate for the China-wide entity. For all non-selected separate rate applicants subject to this review, we will instruct CBP to liquidate all entries of subject merchandise that entered the United States during the POR at the average of the rates calculated for ATC and Botao as listed above. For entries of subject merchandise during the POR produced by ATC and Botao for which they did not know their merchandise was destined for the United States, we intend to instruct CBP to liquidate such entries at the China-wide rate if there is no rate for the intermediate company or companies involved in the transaction.

Cash Deposit Requirements

The following cash deposit requirements will be effective for all shipments of the subject merchandise entered, or withdrawn from warehouse, for consumption on or after the publication date of the final results of this administrative review, as provided by section 751(a)(2)(C) of the Act: (1) the cash deposit rate for the companies subject to this review will be the rate established in these final results of the review; (2) for previously investigated or reviewed Chinese and non-Chinese exporters not listed above that have separate rates, the cash deposit rate will continue to be the exporter-specific rate published for the most recently completed segment of this proceeding in which they were reviewed; (3) for all Chinese exporters of subject merchandise that have not been found to be entitled to a separate rate, the cash deposit rate will be equal to the weighted-average dumping margin for the China-wide entity (i.e., 241.02 percent); and (4) for all non-Chinese exporters of subject merchandise which have not received their own separate rate, the cash deposit rate will be the rate applicable to the Chinese exporter(s) that supplied that non-Chinese exporter.⁹ These cash deposit requirements, when imposed, shall remain in effect until further notice.

⁹ See Order, 86 FR at 14871.

Notification to Importers

This notice serves as a final reminder to importers of their responsibility under 19 CFR 351.402(f)(2) to file a certificate regarding the reimbursement of antidumping and/or countervailing duties prior to liquidation of the relevant entries during this POR. Failure to comply with this requirement could result in Commerce's presumption that reimbursement of antidumping and/or countervailing duties has occurred and the subsequent assessment of double antidumping duties, and/or an increase in the amount of antidumping duties by the amount of countervailing duties.

Administrative Protective Order

This notice also serves as a final reminder to parties subject to an administrative protective order (APO) of their responsibility concerning the return or destruction of proprietary information disclosed under APO in accordance with 19 CFR 351.305(a)(3), which continues to govern business proprietary information in this segment of the proceeding. Timely written notification of the return or destruction of APO materials or conversion to judicial protective order is hereby requested. Failure to comply with the regulations and the terms of an APO is a sanctionable violation.

Notification to Interested Parties

This determination is issued and published in accordance with sections 751(a)(1) and 777(i)(1) of the Act, and 19 CFR 351.2133(h) and 51.221(b)(5).

Dated: May 29, 2025.
Christopher Abbott,
Deputy Assistant Secretary for Policy and Negotiations performing the non-exclusive functions and duties of the Assistant Secretary for Enforcement and Compliance.

Appendix

List of Topics Discussed in the Issues and Decision Memorandum

I. Summary

II. Background

III. Scope of the Order

IV. Change Since the Preliminary Results

V. Discussion of the Issues

Comment 1: Selection of Surrogate Financial Ratios

Comment 2: Surrogate Value (SV) for Sodium Nitrite

Comment 3: SV for Labor Rates

Comment 4: Customs Liquidation Instructions

VI. Recommendation

[FR Doc. 2025-10291 Filed 6-5-25; 8:45 am]

BILLING CODE 3510-DS-P